DEPARTMENT OF THE INTERIOR

Bureau of Land Management

[MT-921-02-1320-EL-P; NDM 91647]

Notice of Coal Lease Application—NDM 91647—The Falkirk Mining Co.

AGENCY: Bureau of Land Management, Department of the Interior.

ACTION: Notice.

SUMMARY: Notice of The Falkirk Mining Company's Coal Lease Application NDM 91647 for certain coal resources within the Falkirk Mine.

The land included in Coal Lease Application NDM 91647 is located in McLean County, North Dakota, and is described as follows:

T. 146 N., R. 82 W., 5th P. M.

Sec. 34: NW¼SW¼.

The 40.00-acre tract contains an estimated 298,914 tons of recoverable coal reserves.

The application will be processed in accordance with the provisions of the Mineral Leasing Act of 1920, as amended (30 U.S.C. 181, et seq.), and the implementing regulations at 43 CFR part 3400. A decision to allow leasing of the coal reserves in said tract will result in a competitive lease sale to be held at a time and place to be announced through publication pursuant to 43 CFR part 3422.

SUPPLEMENTARY INFORMATION: The Falkirk Mining Company is the operator of the Falkirk Mine. The entire area included within this lease application lies within the Falkirk Mine's NAFK-8705 permit area.

The area applied for would be mined as an extension of the Falkirk Mine and would utilize the same methods as those currently being used. The lease being applied for can extend the life of the mine by about 1 month and enable recovery of coal that might never be mined if not mined as a logical extension of current pits.

Notice of Availability: The application is available for review between the hours of 9 a.m. and 4 p.m. at the Bureau of Land Management, Montana State Office, 5001 Southgate Drive, Billings, Montana 59101, and at the Bureau of Land Management, Dakotas District Office, whose address is 2033 Third Avenue West, Dickinson, North Dakota 58601-2619, between the hours of 8 a.m. and 4 p.m.

FOR FURTHER INFORMATION CONTACT: Rebecca Good, Coal Coordinator, at telephone 406-896-5080, Bureau of Land Management, Montana State Office, 5001 Southgate Drive, P.O. Box 36800, Billings, Montana 59107-6800.

Dated: April 10, 2002.
Randy D. Heuscher,
Chief, Branch of Solid Minerals.

[FR Doc. 02-11430 Filed 5-7-02; 8:45 am]

BILLING CODE 4310-$$-P